EQUAL EMPLOYMENT OPPORTUNITY COMMISSION

Sunshine Act Meeting

Date and Time: Wednesday, September 21, 2005, 2 p.m. eastern time.

Place: Clarence M. Mitchell, Jr. Conference Room on the Ninth Floor of the EEOC Office Building, 1801 “L” Street, NW., Washington, DC 20507.

Status: Part of the meeting will be open to the public and part of the meeting will be closed.

Matters to be Considered:

Open Session:

1. Announcement of Notation Votes, and

2. Obligation of Funds for Procurement of Expert Services for a Litigation Case

Closed Session:

Litigation Authorization: General Counsel Recommendations.

Note: Any matter not discussed or concluded may be carried over to a later meeting. (In addition to publishing notices on EEOC Commission meetings in the Federal Register, the Commission also provides a recorded announcement a full week in advance on future Commission sessions.)

Please telephone (202) 663-7100 (voice) and (202) 663-4074 (TTY) at any time for information on these meetings.

FOR FURTHER INFORMATION CONTACT: Stephen Llewellyn, Acting Executive Officer on (202) 663-4070.

This notice issued September 12, 2005.
Stephen Llewellyn,
Acting Executive Officer, Executive Secretariat.

[FR Doc. 05-18371 Filed 9-12-05; 2:43 pm]

BILLING CODE 6750-06-M